INTERNATIONAL TRADE COMMISSION

[Investigation No. 731-TA-130 (Third Review)]

Chloropicrin From China

Determination

On the basis of the record ¹ developed in the subject five-year review, the United States International Trade Commission (Commission) determines, pursuant to section 751(c) of the Tariff Act of 1930 (19 U.S.C. 1675(c)), that revocation of the antidumping duty order on chloropicrin from China would be likely to lead to continuation or recurrence of material injury to an industry in the United States within a reasonably foreseeable time.

¹ The record is defined in sec. 207.2(f) of the Commission's Rules of Practice and Procedure (19 CFR 207.2(f)).

Background

The Commission instituted this review on July 1, 2009 (74 FR 31760) and determined on October 15, 2009 that it would conduct a full review (74 FR 55065, October 26, 2009). Notice of the scheduling of the Commission's review and of a public hearing to be held in connection therewith was given by posting copies of the notice in the Office of the Secretary, U.S. International Trade Commission, Washington, DC, and by publishing the notice in the Federal Register on October 15, 2009 (74 FR 55065). Counsel for the three domestic producers of chloropicrin offered to submit written testimony in lieu of an oral hearing presentation. In connection with the offer of written testimony, counsel indicated a willingness to respond to written questions of the Commissioners by a date to be set by the Commission. No other party filed a request to appear at the hearing. Consequently, the public hearing in connection with the review, scheduled to begin at 9:30 a.m. on February 18, 2010, at the U.S. International Trade Commission Building was cancelled.

The Commission transmitted its determination in this investigation to the Secretary of Commerce on April 19, 2010. The views of the Commission are contained in USITC Publication 4142 (April 2010), entitled Chloropicrin from China: Investigation No. 731-TA-130 (Third Review).

By order of the Commission.
Issued: April 19, 2010.
Marilyn R. Abbott,
Secretary to the Commission.

[FR Doc. 2010-9403 Filed 4-22-10; 8:45 am]

BILLING CODE 7020-02-P